NATIONAL FOUNDATION ON THE ARTS AND THE HUMANITIES

Proposed Collection; 60-Day Comment Request; Generic Clearance for the Collection of Qualitative Feedback on Agency Service Delivery

AGENCY: National Endowment for the Humanities.

ACTION: Notice; request for comments.

SUMMARY: Pursuant to the Paperwork Reduction Act of 1995, the National Endowment for the Humanities (NEH) will be requesting from the Office of Management and Budget (OMB) reinstatement, without change, of NEH's Generic Clearance for the Collection of Qualitative Feedback on Agency Service Delivery. This generic clearance will fast-track the process for NEH to seek feedback from the public, through surveys and similar feedback instruments, regarding NEH services and programs.

DATES: Please submit comments by July 8, 2019.

ADDRESSES: Submit comments to Michael McDonald, General Counsel, National Endowment for the Humanities: 400 Seventh Street SW, Washington, DC 20506, or gencounsel@neh.gov.

FOR FURTHER INFORMATION CONTACT: Michael McDonald, General Counsel, National Endowment for the Humanities: 400 Seventh Street SW, Washington, DC 20506, or gencounsel@neh.gov.

SUPPLEMENTARY INFORMATION:

Overview of This Information Collection

Type of Request: Reinstatement, without change, of a previously approved information collection for which approval has expired.

Title: Generic Clearance for the Collection of Qualitative Feedback on Agency Service Delivery.

OMB Control Number: 3136-0140.

Abstract: Reinstatement of this information collection will enable NEH to obtain qualitative customer and stakeholder feedback in an efficient, timely manner, in accordance with the Administration's commitment to improving service delivery. By qualitative feedback we mean information that provides useful insights on perceptions and opinions, but not statistical surveys that yield quantitative results that can be generalized to the population of study. This feedback will provide NEH with insights into customer or stakeholder perceptions, experiences, and expectations; help NEH quickly identify actual or potential problems with how the agency provides services to the public; or focus attention on areas where communication, training, or changes in operations might improve NEH's delivery of its products or services. These collections will allow for ongoing, collaborative and actionable communications between NEH and its customers and stakeholders. It will also allow feedback to contribute directly to the improvement of program management.

NEH will solicit feedback in areas such as: Timeliness, appropriateness, accuracy of information, courtesy, efficiency of service delivery, and resolution of issues with service delivery. NEH will use the responses to plan and inform its efforts to improve or maintain the quality of service and programs offered to the public. If this information is not collected, NEH will not have access to vital feedback from customers and stakeholders about the agency's services and programs.

NEH will only submit an information collection for approval under this generic clearance if it meets the following conditions:

• The collections are voluntary;

• The collections are low-burden for respondents (based on considerations of total burden hours, total number of respondents, or burden-hours per respondent) and are low-cost for both the respondents and the Federal Government;

• The collections are non-controversial and do not raise issues of concern to other Federal agencies;

• Any collection is targeted to the solicitation of opinions from respondents who have experience with the program or who may have experience with the program in the near future;

• Personally identifiable information (PII) is collected only to the extent necessary, and is not retained;

• Information gathered is intended to be used only internally for general service improvement and program management purposes and is not intended for release outside of the agency (if released, NEH will indicate the qualitative nature of the information);

• Information gathered will not be used for the purpose of substantially informing influential policy decisions; and

• Information gathered will yield qualitative information, and the collections will not be designed or expected to yield statistically reliable results or used as though the results are generalizable to the population of study.

Feedback collected under this generic clearance provides useful information, but will not yield data that can be generalize to the overall population. This type of generic clearance for qualitative information will not be used for quantitative information collections that are designed to yield reliably actionable results, such as monitoring trends over time or documenting program performance.

As a general matter, information collections will not result in any new system of records containing privacy information and will not ask questions of a sensitive nature, such as sexual behavior and attitudes, religious beliefs, and other matters that are commonly considered private.

Affected Public: Individuals and Households, Businesses and Organizations, State, Local or Tribal Governments.

Estimated Number of Respondents: 10,000.

Estimated Annual Frequency per Response: Once per information collection request.

Estimated Average Time per Response: 15 minutes.

Estimated Total Annual Burden Hours: 2,500 hours.

Request for Comments

NEH will make comments submitted in response to this notice, including names and addresses where provided, a matter of public record. NEH will summarize the comments and include them in the request for OMB approval. We are requesting comments on all aspects of this generic clearance request, including: (a) Whether the proposed collection of information is necessary for the proper performance of the functions of the agency, including whether the information will have practical utility; (b) the accuracy of the agency's estimate of the burden of the proposed collection of information; (c) ways to enhance the quality, utility, and clarity of the information to be collected; and (d) ways to minimize the burden of the collection of information on respondents, including through the use of appropriate automated, electronic, mechanical, or other technological collection techniques or other forms of information technology.

Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Dated: May 1, 2019.
Carlos Díaz-Rosillo,
Senior Deputy Chairman, National Endowment for the Humanities.

[FR Doc. 2019-09355 Filed 5-6-19; 8:45 am]

BILLING CODE 7536-01-P